COMMITTEE FOR PURCHASE FROM PEOPLE WHO ARE BLIND OR SEVERELY DISABLED

Procurement List; Proposed Additions and Deletions

AGENCY: Committee for Purchase From People Who Are Blind or Severely Disabled.

ACTION: Proposed deletions from the procurement list.

SUMMARY: The Committee is proposing to Delete product(s) from the Procurement List that were furnished by nonprofit agencies employing persons who are blind or have other severe disabilities.

DATES: Comments must be received on or before: July 16, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) are proposed for deletion from the Procurement List:

Product(s)

NSN(s)—Product Name(s):

7510-01-664-8783—DAYMAX SYSTEM, 2022 Calendar Pad, Type I

7510-01-664-9513—DAYMAX System, 2022, Calendar Pad, Type II

Designated Source of Supply: Anthony Wayne Rehabilitation Ctr for Handicapped and Blind, Inc., Fort Wayne, IN

Contracting Activity: GSA/FAS ADMIN SVCS ACQUISITION BR 2, NEW YORK, NY

NSN(s)—Product Name(s):

8415-01-518-4594—Jacket, Physical Training Uniform, USAF, Blue, X-Small/Short

8415-01-518-4599—Jacket, Physical Training Uniform, USAF, Blue, X-Small/Regular

8415-01-518-4600—Jacket, Physical Training Uniform, USAF, Blue, X-Small/Long

8415-01-518-4601—Jacket, Physical Training Uniform, USAF, Blue, Small/Short

8415-01-518-4603—Jacket, Physical Training Uniform, USAF, Blue, Small/Regular

8415-01-518-4604—Jacket, Physical Training Uniform, USAF, Blue, Small/Long

8415-01-518-4605—Jacket, Physical Training Uniform, USAF, Blue, Medium/Short

8415-01-518-4607—Jacket, Physical Training Uniform, USAF, Blue, Medium/Regular

8415-01-518-4608—Jacket, Physical Training Uniform, USAF, Blue, Medium/Long

8415-01-518-4609—Jacket, Physical Training Uniform, USAF, Blue, Large/Short

8415-01-518-4610—Jacket, Physical Training Uniform, USAF, Blue, Large/Regular

8415-01-518-4611—Jacket, Physical Training Uniform, USAF, Blue, Large/Long

8415-01-518-4612—Jacket, Physical Training Uniform, USAF, Blue, X-Large/Short

8415-01-518-4613—Jacket, Physical Training Uniform, USAF, Blue, X-Large/Regular

8415-01-518-4615—Jacket, Physical Training Uniform, USAF, Blue, X-Large/Long

8415-01-518-4616—Jacket, Physical Training Uniform, USAF, Blue, XX-Large/Short

8415-01-518-4617—Jacket, Physical Training Uniform, USAF, Blue, XX-Large/Regular

8415-01-518-4618—Jacket, Physical Training Uniform, USAF, Blue, XX-Large/Long

8415-01-518-4619—Jacket, Physical Training Uniform, USAF, Blue, XXX-Large/Short

8415-01-518-4620—Jacket, Physical Training Uniform, USAF, Blue, XXX-Large/Regular

8415-01-518-4621—Jacket, Physical Training Uniform, USAF, Blue, XXX-Large/Long

8415-01-518-4622—Jacket, Physical Training Uniform, USAF, Blue, XXXX-Large/Short

8415-01-518-4623—Jacket, Physical Training Uniform, USAF, Blue, XXXX-Large/Regular

8415-01-518-4647—Jacket, Physical Training Uniform, USAF, Blue, XXXX-Large/Long

8415-01-521-0841—Jacket, Physical Training Uniform, USAF, Blue, X Small/X Short

8415-01-521-0844—Jacket, Physical Training Uniform, USAF, Blue, Small/X Short

8415-01-521-0845—Jacket, Physical Training Uniform, USAF, Blue, Medium/X Short

8415-01-521-0846—Jacket, Physical Training Uniform, USAF, Blue, Large/X Short

8415-01-521-0847—Jacket, Physical Training Uniform, USAF, Blue, X Large/X Short

8415-01-521-0848—Jacket, Physical Training Uniform, USAF, Blue, XX Large/X Short

8415-01-521-0849—Jacket, Physical Training Uniform, USAF, Blue, XXX Large/X Short

8415-01-521-0851—Jacket, Physical Training Uniform, USAF, Blue, XXXX Large/X Short

Designated Source of Supply: Blind Industries & Services of Maryland, Baltimore, MD

Contracting Activity: DLA TROOP SUPPORT, PHILADELPHIA, PA

NSN(s)—Product Name(s):

8415-01-518-4594—Jacket, Physical Training Uniform, USAF, Blue, X-Small/Short

8415-01-518-4599—Jacket, Physical Training Uniform, USAF, Blue, X-Small/Regular

8415-01-518-4600—Jacket, Physical Training Uniform, USAF, Blue, X-Small/Long

8415-01-518-4601—Jacket, Physical Training Uniform, USAF, Blue, Small/Short

8415-01-518-4603—Jacket, Physical Training Uniform, USAF, Blue, Small/Regular

8415-01-518-4604—Jacket, Physical Training Uniform, USAF, Blue, Small/Long

8415-01-518-4605—Jacket, Physical Training Uniform, USAF, Blue, Medium/Short

8415-01-518-4607—Jacket, Physical Training Uniform, USAF, Blue, Medium/Regular

8415-01-518-4608—Jacket, Physical Training Uniform, USAF, Blue, Medium/Long

8415-01-518-4609—Jacket, Physical Training Uniform, USAF, Blue, Large/Short

8415-01-518-4610—Jacket, Physical Training Uniform, USAF, Blue, Large/Regular

8415-01-518-4611—Jacket, Physical Training Uniform, USAF, Blue, Large/Long

8415-01-518-4612—Jacket, Physical Training Uniform, USAF, Blue, X-Large/Short

8415-01-518-4613—Jacket, Physical Training Uniform, USAF, Blue, X-Large/Regular

8415-01-518-4615—Jacket, Physical Training Uniform, USAF, Blue, X-Large/Long

8415-01-518-4616—Jacket, Physical Training Uniform, USAF, Blue, XX-Large/Short

8415-01-518-4617—Jacket, Physical Training Uniform, USAF, Blue, XX-Large/Regular

8415-01-518-4618—Jacket, Physical Training Uniform, USAF, Blue, XX-Large/Long

8415-01-518-4619—Jacket, Physical Training Uniform, USAF, Blue, XXX-Large/Short

8415-01-518-4620—Jacket, Physical Training Uniform, USAF, Blue, XXX-Large/Regular

8415-01-518-4621—Jacket, Physical Training Uniform, USAF, Blue, XXX-Large/Long

8415-01-518-4622—Jacket, Physical Training Uniform, USAF, Blue, XXXX-Large/Short

8415-01-518-4623—Jacket, Physical Training Uniform, USAF, Blue, XXXX-Large/Regular

8415-01-518-4647—Jacket, Physical Training Uniform, USAF, Blue, XXXX-Large/Long

8415-01-521-0841—Jacket, Physical Training Uniform, USAF, Blue, X Small/X Short

8415-01-521-0844—Jacket, Physical Training Uniform, USAF, Blue, Small/X Short

8415-01-521-0845—Jacket, Physical Training Uniform, USAF, Blue, Medium/X Short

8415-01-521-0846—Jacket, Physical Training Uniform, USAF, Blue, Large/X Short

8415-01-521-0847—Jacket, Physical Training Uniform, USAF, Blue, X Large/X Short

8415-01-521-0848—Jacket, Physical Training Uniform, USAF, Blue, XX Large/X Short

8415-01-521-0849—Jacket, Physical Training Uniform, USAF, Blue, XXX Large/X Short

8415-01-521-0851—Jacket, Physical Training Uniform, USAF, Blue, XXXX Large/X Short

Designated Source of Supply: Winston-Salem Industries for the Blind, Inc, Winston-Salem, NC

Contracting Activity: DLA TROOP SUPPORT, PHILADELPHIA, PA

Michael R. Jurkowski,
Acting Director, Business Operations.

[FR Doc. 2023-12913 Filed 6-15-23; 8:45 am]

BILLING CODE 6353-01-P